DEPARTMENT OF ENERGY

Federal Energy Regulatory Commission

Notice of Effectiveness of Exempt Wholesale Generator Status

| Docket Nos.
20SD 8me LLC | EG23-243-000
Bright Arrow Solar, LLC | EG23-244-000
Montgomery Ranch Wind Farm, LLC | EG23-245-000
Shamrock Wind, LLC | EG23-246-000
Pioneer Hutt Wind Energy LLC | EG23-247-000
BRP Hydra BESS LLC | EG23-248-000
BRP Paleo BESS LLC | EG23-249-000
BRP Pavo BESS LLC | EG23-250-000
BRP Tortolas BESS LLC | EG23-251-000
BRP Dickens BESS LLC | EG23-252-000
Mockingbird Solar Center, LLC | EG23-253-000
Cereal City Solar, LLC | EG23-254-000
AES WR Limited Partnership | EG23-255-000
High Banks Wind, LLC | EG23-256-000
Hardy Hills Solar Energy LLC | EG23-257-000
Grover Hill Wind, LLC | EG23-258-000
Wildflower Solar 2 LLC | EG23-259-000
Wildflower Solar 3 LLC | EG23-260-000
Richfield Solar Energy LLC | EG23-261-000
Steel Solar, LLC | EG23-262-000
Parliament Solar LLC | EG23-263-000
North Bend Wind Project LLC | EG23-264-000
Five Wells Storage LLC | EG23-265-000
Walnut Bend Solar LLC | EG23-266-000
SCEF 1 Fuel Cell, LLC | EG23-267-000
Longhorn Storage LLC | EG23-269-000
Hunter Solar, LLC | EG23-270-000
Arche Energy Project, LLC | EG23-271-000
El Sol Energy Storage LLC | EG23-272-000
Five Wells Solar Center LLC | EG23-273-000
Hopkins Energy LLC | EG23-274-000
Myrtle Storage, LLC | EG23-275-000
Mammoth North LLC | EG23-276-000

Take notice that during the month of October 2023, the status of the above-captioned entities as Exempt Wholesale Generators became effective by operation of the Commission's regulations. 18 CFR 366.7(a) (2022).

Dated: November 2, 2023.
Debbie-Anne A. Reese,
Deputy Secretary.

[FR Doc. 2023-24739 Filed 11-8-23; 8:45 am]

BILLING CODE 6717-01-P